DEPARTMENT OF ENERGY

Federal Energy Regulatory Commission

Combined Notice of Filings #1

Take notice that the Commission received the following electric corporate filings:

Docket Numbers: EC11-74-000.

Applicants: Macho Springs Power I, LLC, Element Power US, LLC.

Description: Application of Macho Springs Power I, LLC, et al. for Authorization of Disposition of Jursidictional Facilities and Requests for Confidential Treatment and Expedited Consideration.

Filed Date: 04/25/2011.

Accession Number: 20110425-5248.

Comment Date: 5 p.m. Eastern Time on Monday, May 16, 2011.

Docket Numbers: EC11-75-000.

Applicants: Arroyo DP Holding LP, Delta Power Company, LLC, Vineland Energy, LLC, RC Delta Holdings, LLC.

Description: Joint Application of Arroyo DP Holding LP, Delta Power Company, LLC Vineland Energy, LLC and RC Delta Holdings LLC for Authorization for Indirect Disposition of Jurisdictional Facilities and Request for Expedited Treatment.

Filed Date: 04/25/2011.

Accession Number: 20110425-5254.

Comment Date: 5 p.m. Eastern Time on Monday, May 16, 2011.

Take notice that the Commission received the following exempt wholesale generator filings:

Docket Numbers: EG11-78-000.

Applicants: KES Kingsburg, L.P.

Description: Self-Certification of EWG of KES Kingsburg, L.P.

Filed Date: 04/25/2011.

Accession Number: 20110425-5180.

Comment Date: 5 p.m. Eastern Time on Monday, May 16, 2011.

Take notice that the Commission received the following electric rate filings:

Docket Numbers: ER10-3122-001.

Applicants: AES Placerita, Incorporated.

Description: Notice of Non-Material Change in Status of AES Placerita, Incorporated.

Filed Date: 04/25/2011.

Accession Number: 20110425-5247.

Comment Date: 5 p.m. Eastern Time on Monday, May 16, 2011.

Docket Numbers: ER11-2745-001.

Applicants: PJM Interconnection, L.L.C.

Description: PJM Interconnection, L.L.C. submits tariff filing per 35: Compliance filing per Order in ER11-2745-000 to resubmit the Schedule A Image to be effective 12/20/2010.

Filed Date: 04/25/2011.

Accession Number: 20110425-5169.

Comment Date: 5 p.m. Eastern Time on Monday, May 16, 2011.

Docket Numbers: ER11-2750-001.

Applicants: PJM Interconnection, L.L.C.

Description: PJM Interconnection, L.L.C. submits tariff filing per 35: Compliance filing per Order in ER11-2750-000 to resubmit the Schedule A Image to be effective 12/28/2010.

Filed Date: 04/25/2011.

Accession Number: 20110425-5170.

Comment Date: 5 p.m. Eastern Time on Monday, May 16, 2011.

Docket Numbers: ER11-3069-001.

Applicants: Viridian Energy, Inc.

Description: Viridian Energy, Inc. submits tariff filing per 35.17(b): Market Based Rate Tariff to be effective 3/14/2011.

Filed Date: 04/26/2011.

Accession Number: 20110426-5035.

Comment Date: 5 p.m. Eastern Time on Tuesday, May 17, 2011.

Docket Numbers: ER11-3098-001.

Applicants: Viridian Energy PA, LLC.

Description: Viridian Energy PA, LLC submits tariff filing per 35.17(b): Market Based Rate Tariff to be effective 3/15/2011.

Filed Date: 04/26/2011.

Accession Number: 20110426-5039.

Comment Date: 5 p.m. Eastern Time on Tuesday, May 17, 2011.

Docket Numbers: ER11-3141-001.

Applicants: Viridian Energy NY LLC.

Description: Viridian Energy NY LLC submits tariff filing per 35.17(b): Market Based Rate Tariff to be effective 3/18/2011.

Filed Date: 04/26/2011.

Accession Number: 20110426-5045.

Comment Date: 5 p.m. Eastern Time on Tuesday, May 17, 2011.

Docket Numbers: ER11-3432-000.

Applicants: Torofino Physical Trading LLC.

Description: Torofino Physical Trading LLC submits tariff filing per 35.12: FERC Electric Tariff No. 1 to be effective 6/24/2011.

Filed Date: 04/26/2011.

Accession Number: 20110426-5002.

Comment Date: 5 p.m. Eastern Time on Tuesday, May 17, 2011.

Docket Numbers: ER11-3424-000.

Applicants: Northern States Power Company, a Minnesota corporation.

Description: Northern States Power Company, a Minnesota corporation submits tariff filing per 35.13(a)(2)(iii): 2011-4-25_275-NSP_MSHL_Trans_Facs_Agmt to be effective 1/1/2011.

Filed Date: 04/25/2011.

Accession Number: 20110425-5161.

Comment Date: 5 p.m. Eastern Time on Monday, May 16, 2011.

Docket Numbers: ER11-3425-000.

Applicants: Wisconsin Public Service Corporation.

Description: Wisconsin River Power Company Depreciation Study and Change in Depreciation Rates for Wholesale Production Service.

Filed Date: 04/25/2011.

Accession Number: 20110425-5163.

Comment Date: 5 p.m. Eastern Time on Monday, May 16, 2011.

Docket Numbers: ER11-3426-000.

Applicants: Fowler Ridge IV Wind Farm LLC.

Description: Notice of Succession of Fowler Ridge IV Wind Farm LLC.

Filed Date: 04/25/2011.

Accession Number: 20110425-5165.

Comment Date: 5 p.m. Eastern Time on Monday, May 16, 2011.

Docket Numbers: ER11-3428-000.

Applicants: Southern California Edison Company.

Description: Southern California Edison Company submits tariff filing per 35.13(a)(2)(iii: Letter Agreement for CPCN for Calico Solar Phase 2 Reliability Network Upgrades to be effective 4/21/2011.

Filed Date: 04/25/2011.

Accession Number: 20110425-5184.

Comment Date: 5 p.m. Eastern Time on Monday, May 16, 2011.

Docket Numbers: ER11-3429-000.

Applicants: Alabama Power Company.

Description: Alabama Power Company submits tariff filing per 35: Amendment of Southern's Tariff Vol. No. 4 in Compliance Under Docket No. ER09-88 to be effective 4/25/2011.

Filed Date: 04/25/2011.

Accession Number: 20110425-5194.

Comment Date: 5 pm Eastern Time on Monday, May 16, 2011.

Docket Numbers: ER11-3430-000.

Applicants: Arizona Public Service Company.

Description: Arizona Public Service Company submits tariff filing per 35.13(a)(2)(iii: Second WestConnect Participation Agreement to be effective 6/1/2011.

Filed Date: 04/25/2011.

Accession Number: 20110425-5200.

Comment Date: 5:00 pm Eastern Time on Monday, May 16, 2011.

Docket Numbers: ER11-3431-000.

Applicants: New Mexico Green Initiatives, LLC.

Description: New Mexico Green Initiatives, LLC submits tariff filing per 35.12: NM Green Initiatives MBR Application to be effective 4/26/2011.

Filed Date: 04/25/2011.

Accession Number: 20110425-5201.

Comment Date: 5 p.m. Eastern Time on Monday, May 16, 2011.

Docket Numbers: ER11-3432-000.

Applicants: Torofino Physical Trading LLC.

Description: Torofino Physical Trading LLC submits tariff filing per 35.12: FERC Electric Tariff No. 1 to be effective 6/24/2011.

Filed Date: 04/26/2011.

Accession Number: 20110426-5002.

Comment Date: 5 p.m. Eastern Time on Tuesday, May 17, 2011.

Take notice that the Commission received the following land acquisition reports:

Docket Numbers: LA11-1-000.

Applicants: Astoria Generating Company, L.P., Boston Generating LLC, Fore River Development, LLC, Mystic I, LLC, Mystic Development, LLC.

Description: Quarterly Land Acquisition Report of Astoria Generating Company, L.P.

Filed Date: 04/25/2011.

Accession Number: 20110425-5135.

Comment Date: 5 p.m. Eastern Time on Monday, May 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 26, 2011.
Nathaniel J. Davis, Sr.,
Deputy Secretary.

[FR Doc. 2011-10523 Filed 4-29-11; 8:45 am]

BILLING CODE 6717-01-P